DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Certification Requirements for NOAA's Hydrographic Product Quality Assurance Program.

Form Number(s): None.

OMB Approval Number: 0648-0507.

Type of Request: Regular submission.

Burden Hours: 24.

Number of Respondents: 2.

Average Hours Per Response: 4 hours.

Needs and Uses: NOAA was mandated by the Hydrographic Service Improvement Acts of 1998 and 2002 to develop and implement a quality assurance program under which the Administrator may certify privately-made hydrographic products. The Administrator fulfilled this mandate by establishing procedures by which hydrographic products are proposed for certification; by which standards and compliance tests are developed, adopted, and applied for those products; and by which certification is awarded or denied. These procedures are now at 15 CFR 996. The application and recordkeeping requirements at 15 CFR part 996 are the basis for this collection of information.

Affected Public: Business or other for-profit organizations.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: December 4, 2007.
Gwellnar Banks,
Management Analyst, Office of the Chief Information Officer.

[FR Doc. E7-23868 Filed 12-7-07; 8:45 am]

BILLING CODE 3510-22-P